OFFICE OF PERSONNEL MANAGEMENT

Federal Salary Council

AGENCY: Office of Personnel Management.

ACTION: Notice of meeting.

SUMMARY: The Federal Salary Council will meet on November 19, 2010, at the time and location shown below. The Council is an advisory body composed of representatives of Federal employee organizations and experts in the fields of labor relations and pay policy. The Council makes recommendations to the President's Pay Agent (the Secretary of Labor and the Directors of the Office of Management and Budget and the Office of Personnel Management) about the locality pay program for General Schedule employees under section 5304 of title 5, United States Code. The Council's recommendations cover the establishment or modification of locality pay areas, the coverage of salary surveys, the process of comparing Federal and non-Federal rates of pay, and the level of comparability payments that should be paid.

The November meeting will be devoted to reviewing the results of pay comparisons and formulating its recommendations to the President's Pay Agent on pay comparison methods, locality pay rates, and locality pay areas and boundaries for 2012. The meeting is open to the public. Please contact the Office of Personnel Management at the address shown below if you wish to submit testimony or present material to the Council at the meeting.

DATES: November 19, 2010, at 10 a.m.

Location: Office of Personnel Management, 1900 E Street, NW., Room 5H17, Washington, DC.

FOR FURTHER INFORMATION CONTACT: Charles D. Grimes, III, Deputy Associate Director, Employee Services, Office of Personnel Management, 1900 E Street, NW., Room 7H31, Washington, DC 20415-8200. Phone (202) 606-2838; FAX (202) 606-4264; or e-mail at pay-performance-policy@opm.gov.

For the President's Pay Agent.
John Berry,
Director.

[FR Doc. 2010-27835 Filed 11-3-10; 8:45 am]

BILLING CODE 6325-39-P